ENVIRONMENTAL PROTECTION AGENCY

40 CFR Part 52

[IN144-2; FRL7414-2]

Approval and Promulgation of Implementation Plans; Indiana; Withdrawal of Direct Final Rule

AGENCY: Environmental Protection Agency (EPA).

ACTION: Withdrawal of direct final rule.

SUMMARY: Due to an adverse comment, the EPA is withdrawing the direct final rule revising particulate matter (PM) control requirements for certain natural gas combustion sources in Indiana. In the direct final rule published on October 11, 2002 (67 FR 63268), we stated that if we receive adverse comment by November 12, 2002, the rule would be withdrawn and not take effect. EPA subsequently received adverse comment. EPA will address the comments received in a subsequent final action based upon the proposed action also published on October 11, 2002 (67 FR 63353). EPA will not institute a second comment period on this action.

EFFECTIVE DATE: The direct final rule is withdrawn as of November 27, 2002.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524.

List of Subjects in 40 CFR Part 52

Environmental protection, Air pollution control, Incorporation by reference, Intergovernmental relations, Particulate matter.

Dated: November 19, 2002.
Bharat Mathur,
Acting Regional Administrator, Region 5.

Accordingly, the addition of 40 CFR 52.770(c)(152) is withdrawn as of November 27, 2002.

[FR Doc. 02-30118 Filed 11-26-02; 8:45 am]

BILLING CODE 6560-50-P